DEPARTMENT OF DEFENSE

Department of the Army; Corps of Engineers

Notice of Intent to Grant an Exclusive License of the United States; Patent No. 6,569,807

AGENCY: Department of the Army, U.S. Army Corps of Engineers, DOD.

ACTION: Notice of intent.

SUMMARY: In accordance with 37 CFR 404.7(a)(1)(i), announcement is made of a prospective exclusive license of the following U.S. Patent No. 6,569,807, entitled “Mycoherbicidal compositions and methods of preparing and using the same”, which issued on May 27, 2003, all reissues, reexaminations, and patent term extensions of this patent, and any international equivalents thereof to Marrone Bio Innovations, Inc.

DATES: Written objections must be filed not later than 15 days following publication of this announcement.

ADDRESSES: United States Army Engineer Research and Development Center, ATTN: CEERD-OT (Ms. Bea Shahin), 2902 Newmark Drive, Champaign, IL 6182-1076.

FOR FURTHER INFORMATION CONTACT: Ms. Bea Shahin (217) 373-7234, Fax (217) 373-7210, email: Bea.S.Shahin@usace.army.mil.

SUPPLEMENTARY INFORMATION: Patent # 6,569,807 entitled “Mycoherbicidal compositions and methods of preparing and using the same” describes innovative techniques in the laboratory that induce a biocontrol fungus, Mycoleptodiscus terrestris, to produce survival propagules termed microsclerotia in fermentation broth culture. The microsclerotia are composed of melanaized fungal hyphae and can be dried to a moisture content of approximately 5% thus offering a shelf life to the intended product, a mycoherbicide. Upon rehydration the microsclerotia germinate hyphally within 24 hours and sprorogenically within 72 hours. The hyphae and the spores provide primary and secondary inoculum respective that can induce disease development in the nuisance aquatic species, Hydrilla verticillata. Although the original research intent was to develop a mycoherbicide that could be used to manage hydrilla, the patent as written is extremely broad and allows the Corps of Engineers exclusive rights to any fungus that produces microsclerotia and can be used for aquatic plant control.

Brenda S. Bowen,
Army Federal Register Liaison Officer.

[FR Doc. 2012-30849 Filed 12-20-12; 8:45 am]

BILLING CODE 3720-58-P